DEPARTMENT OF DEFENSE

Department of the Army

Final Draft Integrated Total Army Personnel Data Base (ITAPDB) Data Element Standard Version 1.0 (V1.0)

AGENCY: Deputy Chief of Staff for Personnel, U.S. Army, DoD.

ACTION: Notice (Request for Comments).

SUMMARY: The Department of the Army, Office of the Deputy Chief of Staff for Personnel, in coordination with the U.S. Army Reserves and the Army National Guard, announce the Final Draft Integrated Total Army Personnel Data Base (ITAPDB) Data Element Standard Version 1.0 (V1.0), dated November 9, 2000. Comments are invited on ways to: (a) Enhance the quality and clarity of the information contained therein; and (b) continue the establishment of a common set of data element standard that will enable the Army to eliminate redundant data, ensure commonality of information, reduce data conversion cost, and align with DoD development initiatives.

DATES: Consideration will be given to all comments received by March 9, 2001. All comments received within 30 days of publication of this notice will be considered for inclusion into Draft ITAPDB Data Element Standard V2.0.

ADDRESSES: Written comments and recommendations on the proposed information collection should be sent to Director, Information Systems, Office of the Deputy Chief of Staff for Personnel, ATTN: DAPE-ZXI (Ms. Golden Giddings/Ms. Angela McCoy), 300 Army Pentagon, Washington, DC 20310. Consideration will be given to all comments received within 30 days of the date of publication of this notice. E-mail address for Ms. Giddings is giddigl@hqda.army.mil and for Ms. McCoy is mccoyak@hqda.army.mil

FOR FURTHER INFORMATION CONTACT: Mr. Paul Oestreich, (703) 325-8877, oestreip@hoffman.army.mil

SUPPLEMENTARY INFORMATION: The ITAPDB establishes data element standard that will be shared among Army information systems horizontally between Army communities and vertically between field level and DA human resource information systems. Establishing a common set of data element standards enables the Army to eliminate redundant data, ensure commonality of information, reduce data conversion costs, and align with DoD development initiatives. As ITAPDB Data Element Standard evolves, it will apply to intelligence, operations, fire support, logistics, safety, transportation, human resource, military police, medical, dental, finance, chaplain, legal, post operation, civilian personnel, moral and welfare, recreation, force management, education center, inspector general and contractor support mission areas as it pertains to people related exchange of information or data.

This standard is essential to achieve effective and efficient system interoperability among systems that support all Army human resources—soldier, civilian, or contractor in active or retired status.

Individuals desiring a copy of the Final Draft ITAPDB Data Element Standard Version 1.0 should e-mail or write to Ms. Giddings or Mr. Oestreich at the above addresses.

Gregory D. Showalter,
Army Federal Register Liaison Officer.

[FR Doc. 01-3169 Filed 2-6-01; 8:45 am]

BILLING CODE 3710-08-U